DEPARTMENT OF TRANSPORTATION

Federal Aviation Administration

Notice of Intent To Rule on Request To Release Airport Property at Rocky Mountain Metropolitan Airport, Broomfield, Colorado

AGENCY: Federal Aviation Administration, (FAA), DOT.

ACTION: Notice of request to release airport property.

SUMMARY: The FAA proposes to rule and invite public comment on the release of a .3 acre parcel of land at Rocky Mountain Metropolitan Airport.

DATES: Comments are due within 30 days of the date of the publication of this notice in the Federal Register.

ADDRESSES: Emailed comments can be provided to Mr. John Sweeney, Community Planner, Denver Airports District Office, john.sweeney@faa.gov, (303) 342-1263.

FOR FURTHER INFORMATION CONTACT: Mr. Brian Bishop, Deputy Director, Rocky Mountain Metropolitan Airport, 11755 Airport Way, Broomfield, CO 80021, rbishop@flyrmma.com, (303) 271-4861; or Mr. John Sweeney, Community Planner, Denver Airports District Office, john.sweeney@faa.gov, (303) 342-1263. Documents reflecting this FAA action may be reviewed at the above locations.

SUPPLEMENTARY INFORMATION: The FAA invites public comment on the request to release property at Rocky Mountain Metropolitan Airport under the provisions of 49 U.S.C. 47107(h)(2). The proposal consists of .3 acres of land located on the West side of the airport, shown as a portion of Parcel 2 on the Airport Layout Plan. The parcel lies on the South side of State Highway 128 near the relocated Simms Road. The FAA concurs that the parcel is no longer needed for airport purposes. The proposed use of this property is compatible with existing airport operations in accordance with FAA's Policy and Procedures Concerning the Use of Airport Revenue, as published in the Federal Register on February 16, 1999.

Issued in Denver, Colorado, on December 20, 2023.
John P. Bauer,
Manager, Denver Airports District Office.

[FR Doc. 2024-00142 Filed 1-5-24; 8:45 am]

BILLING CODE 4910-13-P